DEPARTMENT OF TRANSPORTATION

Federal Railroad Administration

[Docket No. FRA-2020-0027-N-32]

Proposed Agency Information Collection Activities; Comment Request

AGENCY: Federal Railroad Administration (FRA), Department of Transportation (DOT).

ACTION: Notice of information collection; request for comment.

SUMMARY: Under the Paperwork Reduction Act of 1995 (PRA) and its implementing regulations, this notice announces that FRA is forwarding the Information Collection Requests (ICRs) abstracted below to the Office of Management and Budget (OMB) for review and comment. These ICRs describe the information collections and their expected burdens. On September 16, 2020, FRA published a notice providing a 60-day period for public comment on the ICRs.

DATES: Interested persons are invited to submit comments on or before January 7, 2021.

ADDRESSES: Written comments and recommendations for the proposed ICRs should be sent within 30 days of publication of this notice to www.reginfo.gov/public/do/PRAMain. Find the particular ICR by selecting “Currently under 30-day Review—Open for Public Comments” or by using the search function.

FOR FURTHER INFORMATION CONTACT: Ms. Hodan Wells, Information Collection Clearance Officer, Office of Railroad Safety, Regulatory Analysis Division, Federal Railroad Administration, telephone (202) 493-0440, email: Hodan.wells@dot.gov.

SUPPLEMENTARY INFORMATION: The PRA, 44 U.S.C. 3501-3520, and its implementing regulations, 5 CFR part 1320, require Federal agencies to issue two notices seeking public comment on information collection activities before OMB may approve paperwork packages. See 44 U.S.C. 3506, 3507; 5 CFR 1320.8 through 1320.12. On September 16, 2020, FRA published a 60-day notice in the Federal Register soliciting comment on the ICRs for which it is now seeking OMB approval. See 85 FR 57932. FRA received no comments in response to this notice.

Before OMB decides whether to approve the proposed collections of information, it must provide 30 days for public comment. Federal law requires OMB to approve or disapprove paperwork packages between 30 and 60 days after the 30-day notice is published. 44 U.S.C. 3507(b)-(c); 5 CFR 1320.12(d); see also 60 FR 44978, 44983, Aug. 29, 1995. OMB believes the 30-day notice informs the regulated community to file relevant comments and affords the agency adequate time to digest public comments before it renders a decision. 60 FR 44983, Aug. 29, 1995. Therefore, respondents should submit their respective comments to OMB within 30 days of publication to best ensure having their full effect.

Comments are invited on the following ICRs regarding: (1) Whether the information collection activities are necessary for FRA to properly execute its functions, including whether the information will have practical utility; (2) the accuracy of FRA's estimates of the burden of the information collection activities, including the validity of the methodology and assumptions used to determine the estimates; (3) ways for FRA to enhance the quality, utility, and clarity of the information being collected; and (4) ways to minimize the burden of information collection activities on the public, including the use of automated collection techniques or other forms of information technology.

The summaries below describe the ICRs that FRA will submit for OMB clearance as the PRA requires:

Title: Identification of Railroad Cars.¹

¹ FRA makes a revision to the title of OMB Control Number 2130-0506 (formerly titled Identification of Cars Moved in Accordance with Order 13528).

OMB Control Number: 2130-0506.

Abstract: The collection of information is associated with 49 CFR 232.3(d), formerly contained in Interstate Commerce Commission (ICC) Order 13528. Paragraph (d)(3) of 49 CFR 232.3 conditionally excepts certain export, industrial, and other cars not owned by a railroad from part 232 compliance. It requires cars to be identified by a card attached to each side of the equipment, signed by the shipper, specifically noting that the car is being moved under the proper authority. Railroads typically use carrier bad order forms or tags for these purposes. These forms are readily available from all carrier repair facilities. FRA estimates approximately 400 cars per year, each bearing two forms or tags, are moved under this regulation.

Type of Request: Extension without change of a currently approved collection.

Affected Public: Businesses.

Form(s): N/A.

Respondent Universe: 765 railroads.

Frequency of Submission: On occasion.

Total Estimated Annual Responses: 800.

Total Estimated Annual Burden: 67 hours.

Total Estimated Annual Burden Hour Dollar Cost Equivalent: $3,886.

Title: U.S. Locational Requirement for Dispatching U.S. Rail Operations.

OMB Control Number: 2130-0556.

Abstract: Title 49 CFR part 241 requires, in the absence of a waiver, that all dispatching of railroad operations occurring in the United States be performed in the United States. A railroad may, however, conduct dispatching from a country other than the United States in an emergency situation, but only for the duration of the emergency situation. See 49 CFR 241.9(c). A railroad relying on this exception must provide written notification of its action to FRA as soon as practicable; such notification is not required before addressing the emergency situation. The information collected under this rule is used as part of FRA's oversight function to ensure that extraterritorial dispatchers comply with applicable safety regulations.

Type of Request: Extension without change of a currently approved collection.

Affected Public: Businesses.

Form(s): N/A.

Respondent Universe: 4 railroads.

Frequency of Submission: On occasion.

Total Estimated Annual Responses: 1.

Total Estimated Annual Burden: 8 hours.

Total Estimated Annual Burden Hour Dollar Cost Equivalent: $616.

Under 44 U.S.C. 3507(a) and 5 CFR 1320.5(b) and 1320.8(b)(3)(vi), FRA informs all interested parties that a respondent is not required to respond to, conduct, or sponsor a collection of information that does not display a currently valid OMB control number.

Authority: 44 U.S.C. 3501-3520.

Brett A. Jortland,
Deputy Chief Counsel.

[FR Doc. 2020-26924 Filed 12-7-20; 8:45 am]

BILLING CODE 4910-06-P